DEPARTMENT OF HEALTH AND HUMAN SERVICES

Centers for Medicare & Medicaid Services

[CMS-3476-N]

Medicare Program; Public Meeting for Air Ambulance Quality & Patient Safety Advisory Committee Notice of Public Meeting—July 10, 2025

AGENCY: Centers for Medicare & Medicaid Services (CMS), HHS.

ACTION: Notice of meeting.

SUMMARY: This notice announces a virtual public meeting of the Air Ambulance Quality and Patient Safety (AAQPS) Advisory Committee. The AAQPS Advisory Committee will review options to establish quality, patient safety, and clinical capability standards for each clinical capability level of air ambulances.

DATES:

Virtual Meeting Dates: The AAQPS Advisory Committee will hold a virtual meeting on July 10, 2025, from 10:00 a.m. to 5:00 p.m., Eastern Time.

Deadline for Submitting Requests for Special Accommodations: Requests for special accommodations must be received at least 2 weeks before the meeting.

Registration Link: The virtual meeting will be open to the public and held via the Zoom webinar platform. Virtual attendance information will be provided upon registration. To register for the meeting, please visit https://www.cms.gov/medicare/regulations-guidance/advisory-committees/advisory-committee-air-ambulance-quality-and-patient-safety. Attendance is open to the public subject to any technical or capacity limitations.

Deadline for Registration: All individuals who plan to attend the virtual public meeting must register to attend. Request to provide oral comments are due at least 14 calendar days prior to the meeting date. Interested parties are encouraged to register as far in advance of the meeting as possible.

A detailed agenda and materials will be available prior to the meeting on the AAQPS Advisory Committee website at https://www.cms.gov/medicare/regulations-guidance/advisory-committees/advisory-committee-air-ambulance-quality-and-patient-safety.

A transcript and a summary of the meeting will be made available on the AAQPS Advisory Committee website approximately 45 calendar days after the meeting.

ADDRESSES: All meetings are open to the public and will be held virtually. Instructions to view the meeting will be posted on the AAQPS Advisory Committee website and upon registration. If you wish to provide oral comments during the meeting you must complete a registration form on the AAQPS Advisory Committee website at https://www.cms.gov/medicare/regulations-guidance/advisory-committees/advisory-committee-air-ambulance-quality-and-patient-safety, and submit a written copy of your remarks to AAQPS@cms.hhs.gov.

FOR FURTHER INFORMATION CONTACT: Ashley Spence at (410) 786-2000 or via email at AAQPS@cms.hhs.gov.

SUPPLEMENTARY INFORMATION:

I. Background

The Secretary of the U.S. Department of Health and Human Services (HHS) and the Secretary of the U.S. Department of Transportation established the Air Ambulance and Patient Safety (AAQPS) Advisory Committee on August 22, 2023, in response to Section 106 of the No Surprises Act, enacted as part of the Consolidated Appropriations Act, 2021, div. BB, tit. I, Public Law 116-260 (December 27, 2020). The AAQPS Advisory Committee is tasked with reviewing options to establish quality, patient safety, and clinical capability standards for each clinical capability level of air ambulances. The AAQPS Advisory Committee held its first meeting on December 12, 2024.

The AAQPS Advisory Committee is governed by the provisions of the Federal Advisory Committee Act, Public Law 92-463 (October 6, 1972), as amended Title 5 of the United States Code (5 U.S.C. Ch.10).

II. Summary of the Agenda

The AAQPS Advisory Committee will review options to establish quality, patient safety, and clinical capability standards for each clinical capability level of air ambulances at the July 10, 2025, meeting. The Centers for Medicare & Medicaid Services (CMS) will make available a more detailed agenda and meeting materials no later than 3 days before the meeting on the AAQPS Committee website at https://www.cms.gov/medicare/regulations-guidance/advisory-committees/advisory-committee-air-ambulance-quality-and-patient-safety.

III. Public Participation

The meeting is open to the public for virtual attendance on a first-come, first-served basis, as there may be capacity or technical limitations. Please see the ADDRESSES section to view the meeting link.

We are committed to providing equal access to this meeting for all participants. If you need alternative formats or services because of a disability, such as a sign language interpreter, please contact the person listed in the FOR FURTHER INFORMATION CONTACT section no later than 2 weeks before the meeting.

Presenting Oral Comments

CMS will accept oral comments, which must be limited to the objectives of the Committee and limited to 3 minutes per person. Individual members of the public who wish to present oral comments must register and provide a written copy of prepared remarks for inclusion in the meeting records and for circulation to AAQPS Advisory Committee members. All prepared remarks submitted on time will be considered as part of the meeting's record.

IV. Submitting Written Comments

Members of the public may submit written comments for consideration by the Committee at any time via email to AAQPS@cms.hhs.gov. Additionally, members of the public will have the opportunity to submit comments during the July 10, 2025, virtual meeting through the chat feature of the Zoom webinar platform. Members of the public are encouraged to email lengthy written comments to AAQPS@cms.hhs.gov. Advance submissions that are within the scope of the Advisory Committee will become part of the official record of the meeting.

The Administrator of the Centers for Medicare & Medicaid Services (CMS), Mehmet Oz, having reviewed and approved this document, authorizes Vanessa Garcia, who is the Federal Register Liaison, to electronically sign this document for purposes of publication in the Federal Register.

Vanessa Garcia,
Federal Register Liaison, Centers for Medicare & Medicaid Services.

[FR Doc. 2025-10401 Filed 6-6-25; 8:45 am]

BILLING CODE 4120-01-P